DEPARTMENT OF ENERGY

Federal Energy Regulatory Commission

Combined Notice of Filings #1

May 15, 2007.

Take notice that the Commission received the following electric corporate filings:

Docket Numbers: EC07-88-000.

Applicants: Entergy Gulf States, Inc., Entergy Gulf States Louisiana, L.L.C., Entergy Texas, Inc.

Description: Application of Entergy Gulf States, Inc, Entergy Gulf States Louisiana, LLC, & Entergy Texas, Inc for authorization to transfer wholesale tariffs & rate schedules.

Filed Date: 05/11/2007.

Accession Number: 20070514-0092.

Comment Date: 5 p.m. Eastern Time on Friday, June 01, 2007.

Take notice that the Commission received the following electric rate filings:

Docket Numbers: ER04-925-016.

Applicants: Merrill Lynch Commodities, Inc.

Description: Merrill Lynch Commodities, Inc informs FERC of a non-material change in characteristics in granting MLCI market-based rate authorization.

Filed Date: 04/30/2007.

Accession Number: 20070507-0207.

Comment Date: 5 p.m. Eastern Time on Monday, May 21, 2007.

Docket Numbers: ER07-520-003.

Applicants: Midwest Independent Transmission System operator, Inc.

Description: Midwest ISO submits a complete clean version and the redlined coversheet of their Amended Interconnection Agreement with City of Lebanon, Ohio.

Filed Date: 05/10/2007.

Accession Number: 20070511-0356.

Comment Date: 5 p.m. Eastern Time on Thursday, May 31, 2007.

Docket Numbers: ER07-634-001.

Applicants: American Electric Power Service Corporation.

Description: AEP Eastern Operating Companies submit an executed copy of the Third Amended Agreement in compliance with the Commission's 4/25/07 letter order.

Filed Date: 05/09/2007.

Accession Number: 20070511-0358.

Comment Date: 5 p.m. Eastern Time on Wednesday, May 30, 2007.

Docket Numbers: ER07-864-000.

Applicants: Westar Energy, Inc.

Description: Westar Energy, Inc submits First Revised Sheet 172 et al. to their Open Access Transmission Tariff.

Filed Date: 05/04/2007.

Accession Number: 20070508-0282.

Comment Date: 5 p.m. Eastern Time on Friday, May 25, 2007.

Docket Numbers: ER07-870-000.

Applicants: Oncor Electric Delivery Company.

Description: Oncor Electric Delivery Company submits Notice of Succession to change its name from TXU Electric Delivery Co under FERC Electric Tariff, Nineth Revised Volume No. 1.

Filed Date: 05/08/2007.

Accession Number: 20070510-0175.

Comment Date: 5 p.m. Eastern Time on Tuesday, May 29, 2007.

Docket Numbers: ER07-871-000.

Applicants: Cleco Power LLC.

Description: Cleco Power LLC submits a revised Service Agreement for Network Integration Transmission Service with Louisiana Generating LLC.

Filed Date: 05/08/2007.

Accession Number: 20070511-0126.

Comment Date: 5 p.m. Eastern Time on Tuesday, May 29, 2007.

Docket Numbers: ER07-872-000.

Applicants: Southern California Edison Company.

Description: Southern California Edison submits First Revised Sheet No. 2 et al to FERC Electric Tariff, First Revised Volume No. 5 to be effective 7/8/07.

Filed Date: 05/09/2007.

Accession Number: 20070511-0127.

Comment Date: 5 p.m. Eastern Time on Wednesday, May 30, 2007.

Docket Numbers: ER07-873-000.

Applicants: PJM Interconnection, L.L.C.

Description: PJM Interconnection, LLC submits Eighth Revised Sheet No. 24 et al to FERC Electric Tariff, Sixth Revised Volume No. 1, effective 7/1/07.

Filed Date: 05/09/2007.

Accession Number: 20070511-0128.

Comment Date: 5 p.m. Eastern Time on Wednesday, May 30, 2007.

Docket Numbers: ER07-874-000.

Applicants: Rainbow Energy Ventures LLC.

Description: Rainbow Energy Ventures LLC requests that FERC accept its proposed FERC Electric Tariff, Original Volume No. 1 etc.

Filed Date: 05/09/2007.

Accession Number: 20070511-0129.

Comment Date: 5 p.m. Eastern Time on Wednesday, May 30, 2007.

Docket Numbers: ER07-875-000.

Applicants: Peetz Table Wind Energy, LLC.

Description: Peetz Table Wind Energy, LLC's request for authorization to sell energy and capacity at market-based rates, and waiver of the 60-day notice requirement.

Filed Date: 05/09/2007.

Accession Number: 20070511-0362.

Comment Date: 5 p.m. Eastern Time on Wednesday, May 30, 2007.

Docket Numbers: ER07-876-000.

Applicants: Chevron Coalinga Energy Company.

Description: Texaco Natural Gas, Inc notifies FERC that Chevron Coalinga Energy Co is the successor to their electric power marketing function.

Filed Date: 05/09/2007.

Accession Number: 20070511-0359.

Comment Date: 5 p.m. Eastern Time on Wednesday, May 30, 2007.

Docket Numbers: ER07-877-000.

Applicants: WSPP Inc.

Description: WSPP, Inc requests the Commission to amend the WSPP Agreement to include Grays Harbor Energy, LLC et al. as members and submits revisions to reflect the name change and transfer of interest in the WSPP Agreement.

Filed Date: 05/09/2007.

Accession Number: 20070511-0360.

Comment Date: 5 p.m. Eastern Time on Wednesday, May 30, 2007.

Docket Numbers: ER07-878-000.

Applicants: Atlantic City Electric Company.

Description: Atlantic City Company submits an executed interconnection agreement between itself and the City of Vineland, New Jersey.

Filed Date: 05/10/2007.

Accession Number: 20070511-0364.

Comment Date: 5 p.m. Eastern Time on Thursday, May 31, 2007.

Docket Numbers: ER07-879-000.

Applicants: Louisville Gas and Electric Company, Kentucky Utilities Company.

Description: Louisville Gas and Electric Co et al. submits a service agreement under the LG&E/KU Tariff for Cost-Based Sales of Capacity and Energy with Indiana Municipal Power Agency etc.

Filed Date: 05/10/2007.

Accession Number: 20070511-0357.

Comment Date: 5 p.m. Eastern Time on Thursday, May 31, 2007.

Docket Numbers: ER07-880-000.

Applicants: Deseret Generation & Transmission Co-op.

Description: Deseret Generation & Transmission Co-operative, Inc submits the six agreements related to transmission and delivery service to PacifiCorp under its Open Access Transmission Tariff.

Filed Date: 05/10/2007.

Accession Number: 20070511-0363.

Comment Date: 5 p.m. Eastern Time on Thursday, May 31, 2007.

Docket Numbers: ER07-881-000.

Applicants: Alliant Energy Corporate Services, Inc.

Description: Alliant Energy Corporate Services, Inc on behalf of Interstate Power & Light Co et al. submits revised tariff sheets relating to its system coordination and operating agreement.

Filed Date: 05/10/2007.

Accession Number: 20070514-0103.

Comment Date: 5 p.m. Eastern Time on Thursday, May 31, 2007.

Docket Numbers: ER07-882-000.

Applicants: PacifiCorp.

Description: PacifiCorp submits notice of termination of agreement for use of transmission capacity among Pacific Power & Light Co et al.

Filed Date: 05/10/2007.

Accession Number: 20070514-0101.

Comment Date: 5 p.m. Eastern Time on Thursday, May 31, 2007.

Docket Numbers: ER07-883-000.

Applicants: Southwest Power Pool, Inc.

Description: Southwest Power Pool, Inc submits an executed Network Integration Transmission Service Agreement with Kansas City Power and Light Co.

Filed Date: 05/11/2007.

Accession Number: 20070514-0095.

Comment Date: 5 p.m. Eastern Time on Friday, June 01, 2007.

Docket Numbers: ER07-884-000.

Applicants: Entergy Gulf States, Inc.

Description: Entergy Gulf States, Inc submits Notices of Cancellation of Rate Schedule FERC 114 et al.

Filed Date: 05/11/2007.

Accession Number: 20070514-0096.

Comment Date: 5 p.m. Eastern Time on Friday, June 01, 2007.

Docket Numbers: ER07-885-000.

Applicants: Midwest Independent Transmission System.

Description: Midwest ISO submits its proposed revisions to its Open Access Transmission and Energy Markets.

Filed Date: 05/11/2007.

Accession Number: 20070514-0097.

Comment Date: 5 p.m. Eastern Time on Friday, June 01, 2007.

Docket Numbers: ER07-886-000.

Applicants: Southwest Power Pool, Inc.

Description: Southwest Power Pool, Inc submits an executed Network Integration Transmission Service Agreement with Kansas Electric Power Cooperative, Inc.

Filed Date: 05/11/2007.

Accession Number: 20070514-0100.

Comment Date: 5 p.m. Eastern Time on Friday, June 01, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E7-9679 Filed 5-18-07; 8:45 am]

BILLING CODE 6717-01-P